DEPARTMENT OF HOMELAND SECURITY

[Docket No. DHS-2011-0116]

GFIRST Conference Stakeholder Evaluation

AGENCY: National Protection and Programs Directorate, DHS.

ACTION: 30-Day Notice and request for comments; New Information Collection Request: 1670-NEW.

SUMMARY: The Department of Homeland Security (DHS), National Protection and Programs Directorate (NPPD), Office of Cybersecurity and Communications (CS&C), National Cyber Security Division (NCSD), United States Computer Emergency Readiness Team (US-CERT) will submit the following information collection request (ICR) to the Office of Management and Budget (OMB) for review and clearance in accordance with the Paperwork Reduction Act of 1995 (Pub. L. 104-13, 44 U.S.C. Chapter 35). NPPD is soliciting comments concerning new Information Collection Request—GFIRST Conference Stakeholder Evaluation. DHS previously published this ICR in the Federal Register on February 29, 2012, for a 60-day public comment period. DHS received two comments. The purpose of this notice is to allow an additional 30 days for public comments.

DATES: Comments are encouraged and will be accepted until July 27, 2012. This process is conducted in accordance with 5 CFR 1320.10.

ADDRESSES: Interested persons are invited to submit written comments on the proposed information collection to the Office of Information and Regulatory Affairs, OMB. Comments should be addressed to OMB Desk Officer, DHS, Office of Civil Rights and Civil Liberties. Comments must be identified by “DHS-2011-0116” and may be submitted by one of the following methods:

• Federal eRulemaking Portal: http://www.regulations.gov.

• Email: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Corliss McCain, DHS/NPPD/CS&C/NCSD/US-CERT, Corliss.McCain@dhs.gov.

SUPPLEMENTARY INFORMATION: GFIRST is DHS's premier cyber conference and continually seeks to enhance collaborative efforts among cyber constituencies, partners, and stakeholders. The data provided will assist GFIRST planners in areas of improvement and efficiency. With the survey responses, we can better tailor our events, materials, and activities to improve efforts to protect our Nation's cybersecurity. As part of the National Strategy for a Secure Cyberspace, US-CERT is required to assist in the fight against the disruption of the operation of critical information systems.

The National Strategy for a Secure Cyberspace requires US-CERT to assist in the continuous assessment of threats and vulnerabilities to Federal cyber systems. As part of our mission, US-CERT is required to assist and urge state and local governments to consider establishing information technology security programs and participate in information sharing and analysis centers with similar governments. The GFIRST conference provides an annual forum to network with public and private stakeholders, while also acting as a conduit for state and local government information sharing critical to securing our Nation's cyberspace.

US-CERT received two comments from the 60-day comment window:

• Public Comment DHS-2011-0116-002—Summary: The comment referenced an issue with completing the new I-9 Form and instructions.

○ Action by Agency: NPPD will take no action to update the GFIRST Conference Stakeholder Evaluation Forms. There is no reference to the I-9 Form on the GFIRST Conference Stakeholder Evaluation Forms (DHS Form 9050 and DHS Form 9051).

• Public Comment DHS-2011-0116-003—Summary: The comment referenced the total burden cost. A suggestion was made to evaluate the accuracy of the estimated burden cost. There was also a question as to whether the benefit of the survey would outweigh the costs.

○ Action by Agency: NPPD will take no action to update the GFIRST Conference Stakeholder Evaluation Forms. The Total Burden Cost is the total annual costs for operating/maintaining costs for the 1,000 (approximate number) respondents.

Analysis

Agency: The Department of Homeland Security, National Protection and Programs Directorate, Office of Cybersecurity and Communications, United States Computer Emergency Readiness Team.

Title: GFIRST Conference Stakeholder Evaluation.

OMB Number: 1670-NEW.

Frequency: Annually.

Affected Public: Conference attendees, comprising the general public.

Number of Respondents: 1,000 respondents.

Estimated Time Per Respondent: 2 minutes.

Total Burden Hours: 16.6 annual burden hours.

Total Burden Cost (capital/startup): $0.

Total Recordkeeping Burden: $0.

Total Burden Cost (operating/maintaining): $675.95.

Dated: June 20, 2012.
Scott Libby,
Acting Chief Information Officer, National Protection and Programs Directorate, Department of Homeland Security.

[FR Doc. 2012-15608 Filed 6-26-12; 8:45 am]

BILLING CODE 9110-9P-P